DEPARTMENT OF HOMELAND SECURITY

Transportation Security Administration

Notice of Intent To Request Renewal From the Office of Management and Budget (OMB) of a Current Public Collection of Information; Airport Access Control Pilot Program (AACPP); Satisfaction and Effectiveness Measurement Data Collection Instruments

AGENCY: Transportation Security Administration (TSA), DHS.

ACTION: Notice.

SUMMARY: TSA invites public comment on a currently approved information collection requirement abstracted below that will be submitted to OMB for renewal in compliance with the Paperwork Reduction Act.

DATES: Send your comments by December 13, 2004.

ADDRESSES: Comments may be mailed or delivered to Lisa Dean, Privacy Officer, Office of Transportation Security Policy, TSA-9, Transportation Security Administration, 601 South 12th Street, Arlington, VA 22202-4220.

FOR FURTHER INFORMATION CONTACT: Lisa Dean at the above address or by telephone (571) 227-3947 or facsimile (571) 227-2555.

SUPPLEMENTARY INFORMATION: In accordance with the Paperwork Reduction Act of 1995, (44 U.S.C. 3501 et seq.), an agency may not conduct or sponsor, and a person is not required to respond to a collection of information, unless it displays a valid OMB control number. Therefore, in preparation for submission to renew clearance of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including through the use of appropriate automated, electronic, mechanical, or other technological collection techniques or other forms of information technology.

TSA intends to continue testing and evaluating certain new and emerging biometric and other technologies through the Airport Access Control Pilot Program (AACPP), which is currently being conducted under OMB control number 1652-0020. TSA will gather biometric information, demographic information, and airport user identification from a select group of participants at 22 locations to test the use of emerging technologies for airport access control and then evaluate those technologies using two satisfaction instruments. The first instrument will be a survey given to a representative sample of airport users and the second instrument will be an interview conducted with the lead stakeholder at each site and a small percentage of persons participating in the project. Surveys and interviews will be voluntary. TSA estimates the total annual number of respondents for this collection to be 2,620 individuals and the total annual burden to be 780 hours. There is no cost burden to any of the respondents.

Issued in Arlington, Virginia, on October 7, 2004.
Lisa S. Dean,
Privacy Officer.

[FR Doc. 04-23081 Filed 10-13-04; 8:45 am]

BILLING CODE 4910-62-P